DEPARTMENT OF EDUCATION

Advisory Committee on Student Financial Assistance; Meeting

AGENCY: Advisory Committee on Student Financial Assistance, Education.

ACTION: Notice of upcoming teleconference meeting.

SUMMARY: This notice sets forth the schedule and proposed agenda of a forthcoming teleconference meeting of the Advisory Committee on Student Financial Assistance. Individuals who will need accommodations for a disability in order to attend the meeting (i.e., interpreting services assistive listening devices and/or materials in alternative format) should notify Ms. Hope M. Gray at 202-708-7439 or via e-mail at hope.grav@ed.gov no later than 2:00 p.m. on Tuesday, September 25, 2001. We will attempt to meet requests after this date, but cannot guarantee availability of the requested accomodation. The meeting site is accessible to individuals with disabilities. This notice also describes the functions of the Committee. Notice of this meeting is required under Section 10(a)(2) of the Federal Advisory Committee Act. This document is intended to notify the general public.

Note: Due to the circumstances surrounding cancellation of the Advisory Committee's meeting scheduled for September 13-14, 2001, it is necessary to hold a teleconference before September 30 to address the Committee's plans for fiscal year 2002 and other business. Therefore, we were unable to publish this notice 15 days in advance of the scheduled teleconference as required under section10(a)(2) of the Federal Advisory Committee Act.

DATES AND TIMES: Wednesday, September 26, 2001, beginning at 3 p.m. and ending at approximately 4:30 p.m.

ADDRESSES: The Portals Building, 1250 Maryland Avenue, SW., Courtyard Level, Washington, DC 20024.

FOR FURTHER INFORMATION CONTACT: Dr. Brian K. Fitzgerald, Staff Director, Advisory Committee on Student Financial Assistance, Portals Building, 1280 Maryland Avenue, SW., Suite 601, Washington, DC 20202-7582, (202) 708-7439.

SUPPLEMENTARY INFORMATION: The Advisory Committee on Student Financial Assistance is established under Section 491 of the Higher Education Act of 1965 as amended by Public Law 100-50 (20 U.S.C. 1098). The Advisory Committee serves as an independent source of advice and counsel to the Congress and the Secretary of Education on student financial aid policy. Since its inception, the Committee has been charged with providing technical expertise with regard to systems of need analysis and application forms, making recommendations that result in the maintenance of access to postsecondary education for low- and middle-income students; conducting a study of institutional lending in the Stafford Student Loan Program; assisting with activities related in 1992 reauthorization of the Higher Education Act of 1965; conducting a third-year evaluation of the Ford Federal Direct Loan Program (FDLP) and the Federal Family Education Loan Program (FFELP) under the Omnibus Budget Reconciliation Act (OBRA) of 1993; and assisting Congress with the 1998 reauthorization of the Higher Education Act.

The recongressional mandate requires the Advisory Committee to conduct objective, nonpartisan, and independent analyses on important aspects of the student assistance programs under Title IV of the Higher Education Act. The Committee traditionally approaches its work from a set of fundamental goals: promoting program integrity, eliminating or avoiding program complexity, integrating delivery across the Title IV programs, and minimizing burden on students and institutions.

Reauthorization of the Higher Education Act has provided the Advisory Committee with a significantly expanded agenda in six major areas, such as Performance-based Organization (PBO); Modernization; Technology; Simplification of Law and Regulation; Distance Education; and Early Information and Needs Assessment. In each of these areas, Congress has asked the Committee to: monitor progress toward implementing the Amendments of 1998; conduct independent, objective assessments; and make recommendations for improvement to the Congress and the Secretary. Each of these responsibilities flows logically from and effectively implements one or more of the Committee's original statutory functions and purposes.

The proposed agenda includes: (a) approval of the Committee's fiscal year 2002 plans; and (b) elections. Space is limited and you are encouraged to contact the Advisory Committee staff through the Internet at ADV.COMSFA@ed.gov no later than Tuesday, September 25, 2001, if you wish to participate. Also, you may contact the Advisory Committee staff at (202) 708-7439.

The Advisory Committee will meet in Washington, DC via teleconference on Wednesday, September 26, 2001, from 3 p.m. until approximately 4:30 p.m.

Records are kept of all Committee proceedings, and are available for public inspection at the Office of the Advisory Committee on Student Financial Assistance, Portals Building, 1280 Maryland Avenue, SW., Suite 601, Washington, DC from the hours of 9 a.m. to 5:30 p.m. weekdays, except Federal holidays.

Dated: September 19, 2001.
Brian K. Fitzerald,
Staff Director, Advisory Committee on Student Financial Assistance.

[FR Doc. 01-23899 Filed 9-24-01; 8:45 am]

BILLING CODE 4000-01-M